CORPORATION FOR NATIONAL AND COMMUNITY SERVICE

45 CFR Parts 2531 and 2533

RIN 3045-AA40

Innovative and Demonstration Programs and National Service Fellowships

AGENCY: Corporation for National and Community Service.

ACTION: Final rule.

SUMMARY: The Corporation for National and Community Service (hereinafter the “Corporation”) hereby amends its regulations that require the Corporation to announce in the Federal Register its grant application procedures, selection criteria, timing, and other requirements. The Grants.gov FIND module is now used by all Federal agencies to post electronically synopses of funding opportunities under Federal financial assistance programs that award discretionary grants and cooperative agreements. In addition, each agency must post the full announcement electronically. (See 68 FR 58146, October 8, 2003) The Corporation fulfills this requirement by posting its grant announcements on its Web site: http://www.cns.gov.whatshot/notices.html. These revisions will eliminate provisions in certain regulations that state that the Corporation will publish announcements in the Federal Register.

Because the Corporation is required to post its funding opportunities on Grants.gov, and post its full funding announcement electronically on its Web-site (68 FR 58146), the Corporation considers these changes to be administrative in nature. Further, this rule does not meet the definition of “rule” in 5 U.S.C. 804(3)(A) because it is a rule of “particular applicability.” Therefore, it is not subject to the congressional review requirements in 5 U.S.C. 801-808.

DATES: These changes are effective as of February 10, 2004.

FOR FURTHER INFORMATION CONTACT: Mr. William L. Hudson, Telephone: (202) 606-5000 ext. 265 or via Internet: whudson@cns.gov.

SUPPLEMENTARY INFORMATION:

List of Subjects

45 CFR Part 2531

Grant programs-social programs, Volunteers.

45 CFR Part 2533

Scholarships and fellowships, Volunteers.

For the reasons discussed in the Summary, the Corporation for National and Community Service amends Parts 2531 and 2533 of title 45 of the Code of Federal Regulations as follows:

PART 2531—INNOVATIVE AND SPECIAL DEMONSTRATION PROGRAMS

1. The authority citation for Part 2531 continues to read as follows:

Authority: 42 U.S.C. 12501 et seq.

§ 2531.30 Other innovative and model programs.

2. In § 2531.30, remove paragraph (c).

PART 2533—SPECIAL ACTIVITIES

1. The authority citation for Part 2533 continues to read as follows:

Authority: 42 U.S.C. 12501 et seq.

2. Revise § 2533.10 to read as follows:

§ 2533.10 National service fellowships.

The Corporation may award national service fellowships on a competitive basis.

Dated: February 4, 2004.
Frank R. Trinity,
General Counsel.

[FR Doc. 04-2799 Filed 2-9-04; 8:45 am]

BILLING CODE 6050-$$-P